FEDERAL COMMUNICATIONS COMMISSION

47 CFR Part 73

[DA 03-3336; MB Docket No. 03-168, RM-10747; MB Docket No. 03-169, RM-10778]

Radio Broadcasting Services; Crowell, TX and Florien, LA

AGENCY: Federal Communications Commission.

ACTION: Final rule.

SUMMARY: The Audio Division, at the request of Charles Crawford, allots Channel 293C3 at Crowell, Texas, as the community's first local aural transmission service. See 68 FR 47282, August 8, 2003. Channel 293C3 can be allotted to Crowell in compliance with the Commission's minimum distance separation requirements, provided there is a site restriction of 10.7 kilometers (6.6 miles) west to avoid a short-spacing to the application site of Station KBZS, Channel 292C2, Wichita, Texas. The reference coordinates for Channel 293C3 at Crowell are 34-01-11 North Latitude and 99-49-53 West Longitude. The Audio Division, at the request of Charles Crawford, allots Channel 242A at Florien, Louisiana, as the community's first local aural transmission service. See 68 FR 47282, August 8, 2003. Channel 242A can be allotted to Florien in compliance with the Commission's minimum distance separation requirements at city reference coordinates. The reference coordinates for Channel 242A at Florien are 31-26-37 North Latitude and 93-27-26 West Longitude. Filing windows for Channel 293C3 at Crowell, Texas and Channel 242A at Florien, Louisiana will not be opened at this time. Instead, the issue of opening a filing window for these channels will be addressed by the Commission in a subsequent order.

DATES: Effective December 8, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 03-168 and 03-169, adopted October 22, 2003, and released October 24, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Louisiana, is amended by adding Florien, Channel 242A.

3. Section 73.202(b), the Table of FM Allotments under Texas, is amended by adding Crowell, Channel 293C3.

Federal Communications Commission.
John A. Karousos,
Assistant Chief, Audio Division, Media Bureau.

[FR Doc. 03-27818 Filed 11-4-03; 8:45 am]

BILLING CODE 6712-01-P